DEPARTMENT OF THE TREASURY

Office of Foreign Assets Control

31 CFR Part 591

Publication of Venezuela Sanctions Regulations Web General License 43A

AGENCY: Office of Foreign Assets Control, Treasury.

ACTION: Publication of web general license.

SUMMARY: The Department of the Treasury's Office of Foreign Assets Control (OFAC) is publishing one general license (GL) issued pursuant to the Venezuela Sanctions Regulations: GL 43A, which was previously made available on OFAC's website.

DATES: GL 43A was issued on January 29, 2024. See SUPPLEMENTARY INFORMATION for additional relevant dates.

FOR FURTHER INFORMATION CONTACT: OFAC: Assistant Director for Licensing, 202-622-2480; Assistant Director for Regulatory Affairs, 202-622-4855; or Assistant Director for Compliance, 202-622-2490.

SUPPLEMENTARY INFORMATION:

Electronic Availability

This document and additional information concerning OFAC are available on OFAC's website: https://ofac.treasury.gov.

Background

On January 29, 2024, OFAC issued GL 43A to authorize certain transactions otherwise prohibited by the Venezuela Sanctions Regulations (VSR), 31 CFR part 591. The GL was made available on OFAC's website (https://ofac.treasury.gov) when it was issued. GL 43A superseded GL 43, which was issued on October 18, 2023. GL 43A is now expired. The text of GL 43A is provided below.

OFFICE OF FOREIGN ASSETS CONTROL

Venezuela Sanctions Regulations

31 CFR Part 591

GENERAL LICENSE NO. 43A

Authorizing the Wind Down of Transactions Involving CVG Compania General de Mineria de Venezuela CA

(a) Except as provided in paragraph (b) of this general license, all transactions that are ordinarily incident and necessary to the wind down of any transaction involving CVG Compania General de Mineria de Venezuela CA (Minerven), or any entity in which Minerven owns, directly or indirectly, a 50 percent or greater interest, that are prohibited by Executive Order (E.O.) 13850, as amended by E.O. 13857, or E.O. 13884, each as incorporated into the Venezuela Sanctions Regulations, 31 CFR part 591 (the VSR), are authorized through 12:01 a.m. eastern standard time, February 13, 2024.

(b) This general license does not authorize any transactions otherwise prohibited by the VSR, including any transactions involving any person blocked pursuant to the VSR other than the blocked persons described in paragraph (a) of this general license, Government of Venezuela persons blocked solely pursuant to E.O. 13884, Banco Central de Venezuela, or Banco de Venezuela SA Banco Universal.

(c) Effective January 29, 2024, General License No. 43, dated October 18, 2023, is replaced and superseded in its entirety by this General License No. 43A.

Bradley T. Smith,

Director, Office of Foreign Assets Control.

Dated: January 29, 2024.
Bradley T. Smith,
Director, Office of Foreign Assets Control.

[FR Doc. 2024-04851 Filed 3-6-24; 8:45 am]

BILLING CODE 4810-AL-P